FEDERAL MARITIME COMMISSION

Notice of Agreements Filed

The Commission hereby gives notice of the filing of the following agreements under the Shipping Act of 1984. Interested parties may submit comments on an agreement to the Secretary, Federal Maritime Commission, Washington, DC 20573, within ten days of the date this notice appears in the Federal Register. Copies of agreements are available through the Commission's Office of Agreements (202-523-5793 or tradeanalysis@fmc.gov).

Agreement No.: 009857-011.

Title: Florida-Caribbean Cruise Association.

Parties: Carnival Cruise Lines; Celebrity Cruises; Costa Cruise Lines; Cunard Line, Ltd.; Disney Cruise Line; Holland America Line; MSC Cruises (USA) Inc.; Norwegian Cruise Line; Princess Cruises; Radisson Seven Seas Cruises; Royal Caribbean International; and Windstar Cruises.

Filing Party: Matthew Thomas, Esq.; Troutman Sanders LLP; 401 9th Street, NW.; Suite 1000; Washington, DC 20004-2134.

Synopsis: The amendment changes Radisson Seven Seas Cruises to “Regent Seven Seas Cruises.”

Agreement No.: 010979-042.

Title: Caribbean Shipowners Association.

Parties: Bernuth Lines, Ltd.; CMA CGM, S.A.; CP Ships USA, LLC; Crowley Liner Services, Inc.; Interline Connection, N.V.; Seaboard Marine, Ltd.; Seafreight Line, Ltd.; Tropical Shipping and Construction Co., Ltd.; and Zim Integrated Shipping Services, Ltd.

Filing Party: Wayne R. Rohde, Esq.; Sher & Blackwell LLP; 1850 M Street, NW.; Suite 900; Washington, DC 20036.

Synopsis: The amendment adds a new Article 5.H to the Agreement that would authorize the members to enter into agreements with other persons or entities to form and administer a non-profit corporate entity to provide administrative services to the Agreement. It also deletes extraneous material and updates the addresses of three of the parties.

Agreement No.: 010982-038.

Title: Florida-Bahamas Shipowners and Operators Association.

Parties: Atlantic Caribbean Line, Inc.; Crowley Liner Services, Inc.; G&G Marine, Inc.; Pioneer Shipping Ltd.; Seaboard Marine, Ltd.; and Tropical Shipping and Construction Co., Ltd.

Filing Party: Wayne R. Rohde, Esq.; Sher & Blackwell LLP; 1850 M Street, NW.; Suite 900; Washington, DC 20036.

Synopsis: The amendment adds a new Article 5.8 to the Agreement that would authorize the members to enter into agreements with other persons or entities to form and administer a non-profit corporate entity to provide administrative services to the Agreement.

Agreement No.: 011938-001.

Title: HSDG/Alianca/CSAV/Libra/Montemar Cooperative Working Agreement.

Parties: Hamburg-Sud; Alianca Navegacao e Logistica Ltda. e CIA; Compania Sud Americana de Vapores, S.A.; Companhia Libra de Navegacao; and Montemar Maritima S.A.

Filing Party: Walter H. Lion, Esq.; McLaughlin & Stern, LLP; 260 Madison Avenue; New York, NY 10016.

Synopsis: The amendment would add authority for the parties to coordinate their sailing schedules through the establishment of a joint operations center. It would also rename and republish the agreement.

Agreement No.: 011953.

Title: Florida Shipowners Group Agreement.

Parties: Bernuth Lines, Ltd.; CMA CGM SA; CP Ships USA LLC; Crowley Liner Services, Inc.; Interline Connection, NV; Seaboard Marine, Ltd.; Tropical Shipping & Construction Co., Ltd.; Zim Intergrated Shipping Services, Ltd.; Atlantic Caribbean Line, Inc.; Crowley Liner Services, Inc.; G&G Marine, Inc.; Pioneer Shipping Ltd.; Seaboard marine, Ltd.; Tropical Shipping & Construction Co., Ltd.

Filing Party: Wayne R. Rhode, Esq.; Sher & Blackwell, 1800 M Street, NW. Suite 900; Washington, DC 20036.

Synopsis: The agreement authorizes the formation of a legal entity to provide administrative services to the member agreements. It further authorizes that entity to provide such services to the member agreements.

By Order of the Federal Maritime Commission.
Dated: April 7, 2006.
Bryant L. VanBrakle,
Secretary.

[FR Doc. E6-5428 Filed 4-11-06; 8:45 am]

BILLING CODE 6730-01-P